INTERNATIONAL TRADE COMMISSION

[Investigations Nos. 701-TA-387-391 and 731-TA-816-821 (Final)]

Certain Cut-to-Length Steel Plate From France, India, Indonesia, Italy, Japan, and Korea

Determinations ¹

On the basis of the record ² developed in the subject investigations, the United States International Trade Commission determines, pursuant to section 705(b) of the Tariff Act of 1930 (19 U.S.C. 1671d(b)) (the Act), that an industry in the United States is materially injured by reason of imports from France,³ India, Indonesia, Italy, and Korea of certain cut-to-length steel plate, provided for in headings 7208, 7210, 7211, 7212, 7225, and 7226 of the Harmonized Tariff Schedule of the United States, that have been found by the Department of Commerce to be subsidized by the respective governments. The Commission also determines, pursuant to section 735(b) of the Tariff Act of 1930 (19 U.S.C. 1673d(b)) (the Act), that an industry in the United States is materially injured by reason of such imports from France,³ India, Indonesia, Italy, Japan, and Korea that have been found by the Department of Commerce to be sold in the United States at less than fair value (LTFV). The Commission further determines that critical circumstances do not exist with regard to such imports from Japan.

¹ Commissioner Okun not participating.

² The record is defined in § 207.2(f) of the Commission's rules of practice and procedure (19 CFR 207.2(f)).

³ Commissioner Askey dissenting.

Background

The Commission instituted these investigations effective February 16, 1999, following receipt of petitions filed with the Commission and the Department of Commerce by Bethlehem Steel Corp., Bethlehem, PA; U.S. Steel Group, a unit of USX Corp., Pittsburgh, PA; Gulf States Steel, Inc., Gadsden, AL; IPSCO Steel, Inc., Muscatine, IA; Tuscaloosa Steel Co., Tuscaloosa, AL; and the United Steelworkers of America, Pittsburgh, PA.⁴ The final phase of the investigations was scheduled by the Commission following notification of preliminary determinations by the Department of Commerce that imports of certain cut-to-length steel plate from France, India, Indonesia, Italy, and Korea were being subsidized within the meaning of section 703(b) of the Act (19 U.S.C. 1671b(b)) and that imports from France, India, Indonesia, Italy, Japan, and Korea were being sold at LTFV within the meaning of section 733(b) of the Act (19 U.S.C. 1673b(b)). Notice of the scheduling of the Commission's investigations and of a public hearing to be held in connection therewith was given by posting copies of the notice in the Office of the Secretary, U.S. International Trade Commission, Washington, DC, and by publishing the notice in the Federal Register of September 15, 1999 (64 FR 50104). The hearing was held in Washington, DC, on December 14, 1999, and all persons who requested the opportunity were permitted to appear in person or by counsel.

⁴ Gulf States is not a petitioner with respect to the investigations on France. Tuscaloosa is not a petitioner with respect to the investigations on France and Italy.

The Commission transmitted its determinations in these investigations to the Secretary of Commerce on February 1, 2000. The views of the Commission are contained in USITC Publication 3273 (January 2000), entitled Certain Cut-to-length Steel Plate from France, India, Indonesia, Italy, Japan, and Korea: Investigations Nos. 701-TA-387-391 and 731-TA-816-821 (Final).

By order of the Commission.
Issued: February 2, 2000.
Donna R. Koehnke,
Secretary.

[FR Doc. 00-3016 Filed 2-9-00; 8:45 am]

BILLING CODE 7020-02-P